NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by October 16, 2023. This application may be inspected by interested parties at the Permit Office, address below.

ADDRESSES: Comments should be addressed to Permit Office, Office of Polar Programs, National Science Foundation, 2415 Eisenhower Avenue, Alexandria, Virginia 22314 or ACApermits@nsf.gov.

FOR FURTHER INFORMATION CONTACT: Andrew Titmus, ACA Permit Officer, at the above address, 703-292-4479.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas as requiring special protection. The regulations establish such a permit system to designate Antarctic Specially Protected Areas.

Application Details

Permit Application: 2024-009

1. Applicant

Steve Wellmeier, Director of Special Projects, Poseidon Expeditions USA LLC, 245 Warwick Ave, Suite 119, Warwick, RI 02889

Activity for Which Permit Is Requested

Waste Management. The applicant seeks an Antarctic Conservation Act permit for waste management activities associated with coastal camping and the operation of a remotely piloted aircraft system (RPAS) in the Antarctic Peninsula region. The applicant seeks permission for no more than 30 campers and expedition staff to camp overnight at select locations for a maximum of 10 hours ashore. Camping would be away from vegetated sites and wildlife concentrations, avoiding any lakes, protected areas, historical sites, and scientific stations. Tents would be pitched on snow, ice, or bare smooth rock, at least 20m from the high-water line. No food, other than emergency rations, would be brought onshore and all wastes, including human waste, would be collected and returned to the ship for proper disposal. For remotely piloted aircraft systems (RPAS) operation, the applicant proposes to operate small, battery-operated RPAS consisting, in part, of a quadcopter equipped with cameras to collect commercial and educational footage of the Antarctic. The quadcopter would not be flown over concentrations of birds or mammals, or over Antarctic Specially Protected Areas or Historic Sites and Monuments. The RPAS would only be operated by pilots with extensive experience, who are pre-approved by the Expedition Leader.

Location

Port Lockroy, Damoy Point/Dorian Bay, Paradise Bay, Errera Channel, Neumeyer Channel, Petermann Island, other locations south of the Lemaire Channel, locations in the South Shetland Islands and Antarctic Sound, Antarctic Peninsula area.

Dates of Permitted Activities

October 28, 2023-March 30, 2028.

Kimiko S. Bowens-Knox,
Program Analyst, Office of Polar Programs.

[FR Doc. 2023-19966 Filed 9-14-23; 8:45 am]

BILLING CODE 7555-01-P